DEPARTMENT OF STATE

[Public Notice 4172]

Office of Foreign Missions; 30-Day Notice of Proposed Information Collection: Form DS-98, Application for Diplomatic Exemption from Taxes on Utilities; Form DS-99, Application for Diplomatic Exemption from Taxes on Gasoline; OMB Control Number 1405-0069

AGENCY: Department of State, Bureau of Diplomatic Security, Office of Foreign Missions.

ACTION: Notice.

SUMMARY: The Department of State has submitted the following information collection request to the Office of Management and Budget (OMB) for approval in accordance with the Paperwork Reduction Act of 1995. Comments should be submitted to OMB within 30 days of the publication of this notice.

The following summarizes the information collection proposal submitted to OMB:

Type of Request: Re-instatement without change of expired information collection.

Originating Office: Bureau of Diplomatic Security, Office of Foreign Missions, Vehicle, Tax and Customs Unit, DS/OFM/VTC/TC.

Title of Information Collection: Application for Diplomatic Exemption from Taxes on Utilities, (Form DS-98); Application for Diplomatic Exemption from Taxes on Gasoline (Form DS-99).

Frequency: Typically, several applications are submitted by the entitled individual at the beginning of their tour of duty, and then none afterwards.

Form Numbers: DS-98 and DS-99.

Respondents: Foreign diplomatic or consular missions and their personnel; certain foreign government organizations, designated international organizations and certain of their personnel; and foreign military personnel assigned to the staff of a foreign mission in the United States.

Estimated Number of Respondents: Form DS-98, approximately 1250 individual; 25 organizational respondents; Form DS-99, approximately 1660 individual respondents, 30 organizational respondents.

Average Hours Per Response: the average time per response is approx. 1 minute.

Total Estimated Burden: 49 hours.

Public comments are being solicited to permit the agency to:

• Enhance the quality, utility, and clarity of the information being collected.

• Evaluate the accuracy of the agency's estimate of the burden of the collection, including the validity of the methodology and assumptions used.

• Minimize the reporting burden on those who are to respond, including through the use of automated collection techniques or other forms of technology.

FOR FURTHER ADDITIONAL INFORMATION: Copies of the proposed information collection form and supporting documents may be obtained from Mr. Edmond McGill, U.S. Department of State, DS/OFM/VTC/TC, SA-33, 3501 International Place, NW., Washington, DC 20008, 202-895-3618.

Public comments and questions should be directed to the State Department Desk Officer, Office of Information and Regulatory Affairs, Office of Management and Budget (OMB), Washington, DC 20530, who may be reached on 202-395-3897.

Dated: September 18, 2002.
Lynwood M. Dent Jr.,
Deputy Assistant Secretary of State and Deputy Director, Office of Foreign Missions, Bureau of Diplomatic Security, Department of State.

[FR Doc. 02-27008 Filed 10-22-02; 8:45 am]

BILLING CODE 4710-43-P